ENVIRONMENTAL PROTECTION AGENCY

[EPA-HQ-OPP-2007-0837; FRL-8414-2]

Malathion; Notice of Receipt of Requests To Voluntarily Cancel or To Amend To Terminate Uses of Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by the registrants to voluntarily cancel or amend their registrations to terminate uses of certain products containing the pesticide malathion. The requests would terminate the malathion uses listed with their respective products in Table 2. The requests would not terminate the last malathion products registered for use in the United States. EPA intends to grant these requests at the close of the comment period for this announcement unless the Agency receives substantive comments within the comment period that would merit its further review of the requests, or unless the registrants withdraw their requests within this period. Upon acceptance of these requests, any sale, distribution, or use of products listed in this notice will be permitted only if such sale, distribution, or use is consistent with the terms as described in the final order.

DATES: Comments must be received on or before June 19, 2009.

ADDRESSES: Submit your comments, identified by docket identification (ID) number EPA-HQ-OPP-2007-0837, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2007-0837. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel and/or Amend Registrations to Delete Uses

This notice announces receipt by EPA of requests from the registrants listed in Table 3 to cancel 12 and amend to terminate uses of 26 malathion product registrations. Malathion is a non-systemic, broad spectrum organophosphate pesticide with numerous commercial, agricultural and residential uses, as well as several wide area applications including use as a public health adulticide, as an abatement treatment for fruit fly, and in the Boll Weevil Eradication Program. Registrants requested EPA to cancel affected product registrations or to amend to terminate uses of pesticide product registrations identified in this notice in Tables 1 and 2, respectively. These requests will not terminate the last malathion products registered in the United States.

III. What Action is the Agency Taking?

This notice announces receipt by EPA of requests from registrants to cancel or amend to terminate uses of malathion product registrations. The affected products and the registrants making the requests are identified in Tables 1, 2, and 3 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

The malathion registrants have requested that EPA waive the 180-day comment period. EPA will provide a 30-day comment period on the proposed requests.

Unless a request is withdrawn by a registrant within 30 days of publication of this notice, or if the Agency determines that there are substantive comments that warrant further review of this request, an order will be issued canceling or amending the affected registrations.

Table 1—Malathion Product Registrations with Pending Requests for Cancellation
Registration Number | Product Name | Company
228-68 | Riverdale Malathion 5 | Nufarm Americas, Inc.
228-93 | Riverdale Bin Spray | Nufarm Americas, Inc.
228-244 | Riverdale 50% Malathion EC | Nufarm Americas, Inc.
228-252 | Riverdale 4% Malathion Dust | Nufarm Americas, Inc.
228-274 | Riverdale ULV Malathion | Nufarm Americas, Inc.
655-794 | Prentox Malathion 57% EC | Prentiss, Inc.
5905-7 | Fyfanon 5 LB Emulsion | Helena Chemical Company
5905-443 | Helena Malathion 8 Insecticide | Helena Chemical Company
34704-3 | Malathion 55 Insecticide Premium Grade | Loveland Products Inc.
34704-18 | Malathion ULV Concentrate Insecticide | Loveland Products Inc.
34704-119 | Clean Crop Malathion 8EC Insecticide | Loveland Products Inc.
34704-721 | Niagara Malathion 5 Dust | Loveland Products Inc.

Table 2—Malathion Product Registrations with Pending Requests for Amendment
Registration Number | Product Name | Company | Terminate Use
192-96 | Dexol Malathion Insect Control | Value Garden Supply | Residential lawns (broadcast)
239-739 | Ortho Malathion 50 Insect Spray | The Scotts Company LLC | Residential lawns (broadcast)
655-310 | Malathion 95% Technical Premium | Prentiss, Inc. | Greenhouse food crops, Commercial/Institutional/Industrial premises/equipment (outdoor), sewer systems
655-598 | Prentox Malathion 50% Emulsifiable Insecticide | Prentiss, Inc. | Commercial/Institutional/Industrial premises/equipment (outdoor)
655-777 | Prentox 5 LB Malathion Spray | Prentiss, Inc. | Greenhouse food crops, Commercial/Institutional/Industrial premises/equipment (outdoor), lentils, manure piles, residential lawns (broadcast)
769-736 | SMCP Malathion Mole Cricket Bait Insecticide | Value Garden Supply | Residential lawns (broadcast), golf course turf
769-620 | AllPro Malathion 57% Premium Grade | Value Garden Supply | Lentils, greenhouse uses, sewage systems, fly control for outdoor building surfaces
769-621 | SMCP Malathion EM-5 | Value Garden Supply | Residential lawns (broadcast)
769-644 | SMCP MV Fog Solution | Value Garden Supply | Animal premise uses for dairy and livestock barns, stables and pens, food processing plants, outdoor use as a crack and crevice treatment around dairies and stables
769-844 | Pratt Malathion Spray | Value Garden Supply | Residential lawns (broadcast)
769-961 | Pratt Malathion 80 | Value Garden Supply | Dairy cattle (lactating and nonlactating), poultry houses, cowpea forage and hay, cranberry, plum
5905-250 | Fyfanon 8 LB Emulsion | Helena Chemical Company | Lentils, cowpea
9779-5 | Malathion 5 | WinField Solutions | Lentils
10088-56 | Malathion 57% | Athea Laboratories, Inc. | Ornamental lawns and turf
10163-21 | Prokil Malathion 8 | Gowan | Lentils, greenhouse uses
10163-152 | Malathion Technical | Gowan | Greenhouse food use
19713-217 | Drexel Malathion 5EC | Drexel Chemical Company | Lentils
19713-402 | Drexel Malathion Technical | Drexel Chemical Company | Greenhouse food crops, uses around commercial and industrial buildings, sewage systems
34704-108 | Clean Crop Malathion 57 EC | Loveland Products, Inc. | Lentil
34704-474 | Cythion 8 Aquamul | Loveland Products, Inc. | Lentil
47000-107 | Prozap Malathion | Chem-Tech Ltd. | Lentil, residential lawns (broadcast)
48273-26 | Marman Malathion ULV | Nufarm | Lentils, greenhouse food uses
59144-1 | Malathion 50% Insect Spray | Gro Tec, Inc. | Greenhouse uses
66330-220 | Malathion 5 EC | Arysta LifeScience | Lentils, Greenhouse uses
66330-228 | Malathion Technical | Arysta LifeScience | Greenhouse uses
66330-248 | Malathion 8 EC | Arysta LifeScience | Greenhouse uses, lentils, Around the outside of buildings

Table 3 of this unit includes the names and addresses of record for the registrants of the products listed in Table 1 and Table 2 of this unit.

Table 3—Registrants Requesting Voluntary Cancellation and/or Amendments
EPA Company Number | Company Name and Address
239 | The Scotts Company LLC 14111 Scottslawn Road Marysville, OH 43041
655 | Prentiss Incorporated 509 Tower Valley Drive Hillsboro, MO 63050
769, 192 | Value Garden Supply 9100 W. Bloomington Freeway, Suite 113 Bloomington, MN 55431
5905 | Helena Chemical Company 7664 Moore Road Memphis, TN 38120
9779 | WinField Solutions PO Box 64589 MS 5705 St. Paul, MN 55164-0589
10088 | Athea Laboratories, Inc. PO Box 240014 Milwaukee, WI 53224
10163 | Gowan PO Box 5569 Yuma, AZ 85366-5569
19713 | Drexel Chemical Company 1700 Channel Avenue PO Box 13327 Memphis, TN 38113-0327
34704 | Loveland Products, Inc. 7251 W 4th Street PO Box 1286 Greeley, CO 80632-1286
47000 | Chem-Tech, Ltd. 4515 Fleur Dr. #303 Des Moines, IA 50321
48273, 228 | Nufarm Americas, Inc. 150 Harvester Drive, Suite 200 Burr Ridge, IL 60527
59144 | RegWest on behalf of Gro Tec, Inc. 30856 Rocky Road Greeley, CO 80631-9375
66330 | Arysta Life Science North America 15401 Weston Parkway, Suite 150 Cary, NC 27513

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Request and Considerations for Reregistration of Malathion

Registrants who choose to withdraw a request for cancellation must submit such withdrawal in writing to the person listed under FOR FURTHER INFORMATION CONTACT, postmarked before June 19, 2009. This written withdrawal of the request for cancellation will apply only to the applicable FIFRA section 6(f)(1) request listed in this notice. If the products have been subject to a previous cancellation action, the effective date of cancellation and all other provisions of any earlier cancellation action are controlling.

VI. Provisions for Disposition of Existing Stocks

The effective date of cancellation will be the date of the cancellation order. The order effecting these requested cancellations will generally permit a registrant to sell or distribute existing stocks for 1 year after the date the cancellation request was received. This policy is in accordance with the Agency's statement of policy as prescribed the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which were packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical

.

If the requests for voluntary cancellation and use termination are granted, the Agency intends to publish the cancellation order in the Federal Register that will allow persons other than the registrant to continue to sell and/or use existing stocks of canceled products until such stocks are exhausted, provided that such use is consistent with the terms of the previously approved labeling on, or that accompanied, the canceled product. The order will specifically prohibit any use of existing stocks that is not consistent with such previously approved labeling. The Agency will publish the cancellation order in the Federal Register.

List of Subjects

Environmental protection, Pesticides and pests.

Dated: May 7, 2009.
Richard P. Keigwin, Jr.,
Director, Special Review and Reregistration Division, Office of Pesticide Programs.

[FR Doc. E9-11631 Filed 5-19-09; 8:45 am]

BILLING CODE 6560-50-S